DEPARTMENT OF HEALTH AND HUMAN SERVICES

Meeting of the Presidential Advisory Council on HIV/AIDS

AGENCY: Department of Health and Human Services, Office of the Secretary, Office of the Assistant Secretary of Health.

ACTION: Notice.

SUMMARY: As stipulated by the Federal Advisory Committee Act, the U.S. Department of Health and Human Services (DHHS) is hereby giving notice that the Presidential Advisory Council on HIV/AIDS (PACHA) will hold a meeting. The meeting will be open to the public.

DATES: The meeting will be held on September 30, 2010, and Friday, October 1, 2010. The meeting will be held from 10 a.m. to approximately 5 p.m., on September 30, 2010, and from 9 a.m. to approximately 3 p.m., on October 1, 2010.

ADDRESSES: Department of Health and Human Services, Room 800 Humphrey Building, 200 Independence Avenue, SW., Washington, DC 20201.

FOR FURTHER INFORMATION, CONTACT: Mr. Melvin Joppy, Committee Manager, Presidential Advisory Council on HIV/AIDS, Department of Health and Human Services, 200 Independence Avenue, SW., Room 443H Humphrey Building, Washington, DC 20201; (202) 690-5560. More detailed information about PACHA can be obtained by accessing the Council's Web site, http://www.pacha.gov.

SUPPLEMENTARY INFORMATION: PACHA was established by Executive Order 12963, dated June 14, 1995, as amended by Executive Order 13009, dated June 14, 1996. The Council was established to provide advice, information, and recommendations to the Secretary regarding programs and policies to (a) reduce HIV incidence; (b) advance research on HIV/AIDS; (c) improve health outcomes and ensure people living with HIV have access to treatment, provide global leadership in responding to the HIV pandemic and expand access to treatment, care, and prevention for people infected with and affected by HIV/AIDS around the world. The functions of the Council are solely advisory in nature.

The Council consists of not more than 25 members. Council members are selected from prominent community leaders with particular expertise in, or knowledge of, matters concerning HIV and AIDS, public health, global health, philanthropy, marketing or business, as well as other national leaders held in high esteem from other sectors of society. Council members are appointed by the Secretary or designee, in consultation with the White House Office on National AIDS Policy.

The agenda for the upcoming meeting will be posted on the Council's Web site, http://www.pacha.gov.

Public attendance at the meeting is limited to space available. Individuals must provide a photo ID for entry into the building. Individuals planning to attend who have special needs, require assistance, and/or reasonable accommodations, such as sign language interpretation, should notify the designated contact person. Pre-registration for public attendance is advisable and can be accomplished by contacting the PACHA Committee Manager.

Members of the public will have the opportunity to provide comments on September 30, 2010. Pre-registration is required for public comment. Any individual who wishes to participate in the public comment session must contact the PACHA Committee Manager. Public comment will be limited to three minutes per speaker. Members of the public who wish to have printed materials distributed to PACHA for discussion at the meeting are asked to provide, at a minimum, 30 copies of the materials to the PACHA Committee Manager no later than close of business on Friday, September 23, 2010. Contact information for the PACHA Committee Manager is provided above.

Dated: September 14, 2010.
La Vonnia Persaud,
Director, Humphrey Administrative Resource Center, Office of the Assistant Secretary for Health.

[FR Doc. 2010-23306 Filed 9-16-10; 8:45 am]

BILLING CODE 4150-43-P